DEPARTMENT OF HOUSING AND URBAN DEVELOPMENT

[Docket No. FR-4563-N-06]

Notice of Proposed Information Collection for Tenant Opportunities Semi-Annual Report

AGENCY: Office of the Assistant Secretary for Public and Indian Housing, HUD.

ACTION: Notice.

SUMMARY: The proposed information collection requirement described below will be submitted to the Office of Management and Budget (OMB) for review, as required by the Paperwork Reduction Act. The Department is soliciting public comments on the subject proposal.

DATES: Comments Due Date: July 31, 2000.

ADDRESSES: Interested Persons are invited to submit comments regarding this proposal. Comments should refer to the proposal by name and/or OMB Control number and should be sent to: Mildred M. Hamman, Reports Liaison Officer, Public and Indian Housing, Department of Housing and Urban Development, 451 7th Street, SW, Room 4238, Washington, DC 20410-5000.

FOR FURTHER INFORMATION CONTACT: Mildred M. Hamman, (202) 708-3642, extension 4128, for copies of the proposed forms and other available documents. (This is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This Notice also lists the following information:

Title of Proposal: Tenant Opportunities Semi-Annual Report.

OMB Control Number: 2577-0087.

Description of the need for the information and proposed use: Grantees participating in TOP are required to submit Semiannual Report (Form HUD-52370), which will evaluate the progress in carrying out the approved TOP workplan/budget. Grantees shall submit the report on a semiannual basis for the periods ending June 30 and December 31. The reports must be submitted to HUD within 30 days after the end of each semiannual reporting period. No grant payments will be approved for drawdown through the Line of Credit Control System/Voice Response System (LOCCS/VRS) for grantees with overdue progress reports. Form HUD-52371, Tenant Opportunities Program Consultant/Trainer Checklist is canceled.

Agency form numbers: HUD-52370.

Members of affected public: State, Local or Tribal government.

Estimation of the total number of hours needed to prepare the information collection including number of respondents, frequency of response, and hours of response: 958 TOP grantees, semiannual, two hours per response, 3,832 hours total reporting burden.

Status of the proposed information collection: Reinstatement.

Authority: Section 3506 of the Paperwork Reduction Act of 1995, 44 U.S.C. Chapter 35, as amended.

Dated: May 24, 2000.
Harold Lucas,
Assistant Secretary for Public and Indian Housing.

BILLING CODE 4210-33-M

[FR Doc. 00-13609 Filed 5-31-00; 8:45 am]

BILLING CODE 4210-33-C